ENVIRONMENTAL PROTECTION AGENCY

40 CFR Part 52

[EPA-R05-OAR-2010-0545; FRL-9295-2]

Proposed Approval of Air Quality Implementation Plans; Indiana; Stage I Vapor Recovery Rule

AGENCY: Environmental Protection Agency (EPA).

ACTION: Proposed rule.

SUMMARY: EPA is proposing to approve into the Indiana State Implementation Plan (SIP), amendments to the stage I vapor recovery rule and administrative changes to stage II vapor recovery rule submitted by the Indiana Department of Environmental Management on June 11, 2010. These rule revisions made volatile organic compounds (VOC) emission control requirements for filling at gasoline dispensing facilities more stringent by applying them statewide, making the rule applicable to smaller tanks and revising the requirements for newer submerged fill pipes. These new state requirements update the SIP consistent with new Federal requirements from January 10, 2008 area source National Emissions Standards for Hazardous Air Pollutants for gasoline dispensing facilities. The revisions also delete references to compliance dates which have passed. The rules are approvable because they are consistent with the Clean Air Act and EPA regulations, and should result in additional emission reductions of VOCs throughout Indiana.

DATES: Comments must be received on or before May 16, 2011.

ADDRESSES: Submit your comments, identified by Docket ID No. EPA-R05-OAR-2010-0545, by one of the following methods:

1. http://www.regulations.gov: Follow the on-line instructions for submitting comments.

2. E-mail: aburano.douglas@epa.gov.

3. Fax: (312) 408-2279.

4. Mail: Doug Aburano, Chief, Control Strategies Section, Air Programs Branch (AR-18J), U.S. Environmental Protection Agency, 77 West Jackson Boulevard, Chicago, Illinois 60604.

5. Hand Delivery: Doug Aburano, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Please see the direct final rule which is located in the Final Rules section of this Federal Register for detailed instructions on how to submit comments.

FOR FURTHER INFORMATION CONTACT: Carolyn Persoon, Environmental Engineer, Criteria Pollutant Section, Air Programs Branch (AR-18J), Environmental Protection Agency, Region 5, 77 West Jackson Boulevard, Chicago, Illinois 60604, (312) 353-8290, persoon.carolyn@epa.gov.

SUPPLEMENTARY INFORMATION: In the Final Rules section of this Federal Register, EPA is approving the State's SIP submittal as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: March 30, 2011.
Susan Hedman,
Regional Administrator, Region 5.

[FR Doc. 2011-8860 Filed 4-13-11; 8:45 am]

BILLING CODE 6560-50-P